DEPARTMENT OF THE TREASURY

Internal Revenue Service

Open Meeting of the Joint Committee of the Taxpayer Advocacy Panel

AGENCY: Internal Revenue Service (IRS), Treasury.

ACTION: Notice.

SUMMARY: An open meeting of the Joint Committee of the Taxpayer Advocacy Panel will be conducted via conference call. The Taxpayer Advocacy Panel is soliciting public comment, ideas, and suggestions on improving customer service at the Internal Revenue Service.

DATES: The meeting will be held Wednesday, August 1, 2007, at 1 p.m., Eastern Time.

FOR FURTHER INFORMATION CONTACT: Barbara Foley at 1-888-912-1227, or (414) 231-2360.

SUPPLEMENTARY INFORMATION: Notice is hereby given pursuant to Section 10(a)(2) of the Federal Advisory Committee Act, 5 U.S.C. App. (1988) that an open meeting of the Joint Committee of the Taxpayer Advocacy Panel (TAP) will be held Wednesday, August 1, 2007, at 1 p.m. Eastern Time via a conference call. If you would like to have the Joint Committee of TAP consider a written statement, please call 1-888-912-1227 or (414) 231-2360, or write Barbara Foley, TAP Office, MS-1006-MIL, PO Box 3205, Milwaukee, WI 53201-2105, or FAX to (414) 231-2363, or you can contact us at http://www.improveirs.org. For information to join the Joint Committee conference call meeting, contact Barbara Foley at the above number.

The agenda will include the following: Discussion of issues and responses brought to the Joint Committee, office report, and discussion of next meeting.

Dated: July 3, 2007.
John Fay,
Acting Director, Taxpayer Advocacy Panel.

[FR Doc. E7-13387 Filed 7-10-07; 8:45 am]

BILLING CODE 4830-01-P